GENERAL SERVICES ADMINISTRATION

[FMR Bulletin PBS-2007-B1]

Federal Management Regulation; Redesignations of Federal Buildings

AGENCY: Public Buildings Service (P), GSA.

ACTION: Notice of a bulletin.

SUMMARY: The attached bulletin announces the redesignation of a Federal Building.

DATES: Expiration Date: This bulletin expires August 5, 2007. However, the building redesignation announced by this bulletin will remain in effect until canceled or superseded.

FOR FURTHER INFORMATION CONTACT: General Services Administration, Public Buildings Service (P), Attn: Anthony E. Costa, 1800 F Street, NW, Washington, DC 20405, e-mail at anthony.costa@gsa.gov, (202) 501-1100.

Dated: February 28, 2007.
Lurita Doan,
Administrator of General Services.

U.S. GENERAL SERVICES ADMINISTRATION

[FMR BULLETIN PBS-2007-B1]

REDESIGNATIONS OF FEDERAL BUILDINGS

TO: Heads of Federal Agencies

SUBJECT: Redesignations of Federal Buildings

1. What is the purpose of this bulletin? This bulletin announces the redesignation of a Federal Building.

2. When does this bulletin expire? This bulletin expires August 5, 2007. However, the building redesignation announced by this bulletin will remain in effect until canceled or superseded.

3. Redesignation. The former and new names of the redesignated building are as follows:

Former Name | New Name
United States Post Office and Courthouse, 700 Grant Street, Pittsburgh, PA 15219. | United States Courthouse, 700 Grant Street, Pittsburgh, PA 15219.

4. Who should we contact for further information regarding redesignation of this Federal Building? U.S. General Services Administration, Public Buildings Service (P),Attn: Anthony E. Costa, 1800 F Street, NW, Washington, DC 20405, telephone number: (202) 501-1100, e-mail at anthony.costa@gsa.gov.

Dated: February 28, 2007.
Lurita Doan,
Administrator of General Services.

[FR Doc. E7-7230 Filed 4-16-07; 8:45 am]

BILLING CODE 6820-23-S